FEDERAL COMMUNICATIONS COMMISSION

47 CFR Part 73

[DA 03-17, MM Docket No. 01-19: RM-10048, RM-10027; MM Docket No. 01-27, RM-10056, RM-10118]

Radio Broadcasting Services; Clayton, Ruston, Saint Joseph, and Wisner, LA

AGENCY: Federal Communications Commission.

ACTION: Final rule.

SUMMARY: This document consolidates two rulemaking proceedings and allots Channel 257C3 to Saint Joseph, Louisiana, and Channel 300C3 to Wisner, Louisiana, as first local services. To accommodate the Saint Joseph allotment, the document also substitutes Channel 2666A for vacant Channel 257A at Clayton, Louisiana. See 66 FR 10267, February 14, 2001, and 66 FR 10659, February 16, 2001. This document also dismisses a counterproposal to upgrade Station KNBB(FM), Ruston, Louisiana, from Channel 257C3 to Channel 257C2, because it was not technically correct upon the date when it was filed. Rather, it was contingent on the dismissal of a counterproposal in an earlier rulemaking. The coordinates for Channel 257C3 at Saint Joseph are 32-51-44 and 91-11-41. The coordinates for Channel 266A at Clayton are 31-44-48 and 91-31-16. The coordinates for Channel 300C3 at Wisner are 32-05-28 and 91-28-57.

DATES: Effective February 24, 2003.

FOR FURTHER INFORMATION CONTACT: Andrew J. Rhodes, Media Bureau, (202) 418-2180.

SUPPLEMENTARY INFORMATION: This is a synopsis of the Commission's Report and Order in MM Docket Nos. 01-19 and 01-27, adopted January 6, 2003, and released January 8, 2003. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Louisiana, is amended by removing Channel 257A and adding Channel 266A at Clayton, by adding Saint Joseph, Channel 257C3, and Wisner, Channel 300C3.

Federal Communications Commission.
John A. Karousos,
Assistant Chief, Audio Division, Media Bureau.

[FR Doc. 03-1745 Filed 1-24-03; 8:45 am]

BILLING CODE 6712-01-P